Title 3—

The President

Proclamation 8502 of April 20, 2010

National Equal Pay Day, 2010

By the President of the United States of America

A Proclamation

Throughout our Nation’s history, extraordinary women have broken barriers to achieve their dreams and blazed trails so their daughters would not face similar obstacles. Despite decades of progress, pay inequity still hinders women and their families across our country. National Equal Pay Day symbolizes the day when an average American woman’s earnings finally match what an average American man earned in the past year. Today, we renew our commitment to end wage discrimination and celebrate the strength and vibrancy women add to our economy.

Our Nation’s workforce includes more women than ever before. In households across the country, many women are the sole breadwinner, or share this role equally with their partner. However, wage discrimination still exists. Nearly half of all working Americans are women, yet they earn only about 80 cents for every dollar men earn. This gap increases among minority women and those with disabilities.

Pay inequity is not just an issue for women; American families, communities, and our entire economy suffer as a result of this disparity. We are still recovering from our economic crisis, and many hardworking Americans are still feeling its effects. Too many families are struggling to pay their bills or put food on the table, and this challenge should not be exacerbated by discrimination. I was proud that the first bill I signed into law, the Lilly Ledbetter Fair Pay Restoration Act, helps women achieve wage fairness. This law brings us closer to ending pay disparities based on gender, age, race, ethnicity, religion, or disability by allowing more individuals to challenge inequality.

To further highlight the challenges women face and to provide a coordinated Federal response, I established the White House Council on Women and Girls. My Administration also created a National Equal Pay Enforcement Task Force to bolster enforcement of pay discrimination laws, making sure women get equal pay for an equal day’s work. And, because the importance of empowering women extends beyond our borders, my Administration created the first Office for Global Women’s Issues at the Department of State.

We are all responsible for ensuring every American is treated equally. From reshaping attitudes to developing more comprehensive community-wide efforts, we are taking steps to eliminate the barriers women face in the workforce. Today, let us reaffirm our pledge to erase this injustice, bring our Nation closer to the liberty promised by our founding documents, and give our daughters and granddaughters the gift of true equality.

NOW, THEREFORE, I, BARACK OBAMA, President of the United States of America, by virtue of the authority vested in me by the Constitution and the laws of the United States, do hereby proclaim April 20, 2010, as National Equal Pay Day. I call upon all Americans to acknowledge the injustice of wage discrimination and join my Administration’s efforts to achieve equal pay for equal work.

IN WITNESS WHEREOF, I have hereunto set my hand this twentieth day of April, in the year of our Lord two thousand ten, and of the Independence of the United States of America the two hundred and thirty-fourth.

[FR Doc. 2010-9624

Filed 4-22-10; 8:45 am]

Billing code 3195-W0-P